DEPARTMENT OF HEALTH AND HUMAN SERVICES

National Institutes of Health

National Institute of Mental Health; Amended Notice of Meeting

Notice is hereby given of a change in the meeting of the National Advisory Mental Health Council, May 19, 2020, 9:00 a.m. to May 19, 2020, 5:00 p.m., National Institutes of Health, Neuroscience Center, 6001 Executive Blvd., Rockville, MD, 20852 which was published in the Federal Register on January 07, 2020, 85 FR 725.

This notice is being amended to change the meeting from in-person to a virtual meeting. The date and times remain the same. Open session will be videocast from this link: https://videocast.nih.gov/live.asp?live=37495. The meeting is partially Closed to the public.

Dated: May 4, 2020.
Melanie J. Pantoja,
Program Analyst, Office of Federal Advisory Committee Policy.

[FR Doc. 2020-09928 Filed 5-7-20; 8:45 am]

BILLING CODE 4140-01-P